DEPARTMENT OF HEALTH AND HUMAN SERVICES

National Institutes of Health

Center for Scientific Review; Amended Notice of Meeting

Notice is hereby given of a change in the meeting of the Neurotransporters, Receptors, and Calcium Signaling Study Section, June 7, 2007, 8:30 a.m. to June 8, 2007, 5 p.m., Grand Hyatt San Francisco, 345 Stockton Street, San Francisco, CA 94108 which was published in the Federal Register on April 20, 2007, 72 FR 19941-19942.

The meeting will be held on June 7, 2007, 8:30 a.m. to 7 p.m. The meeting location remains the same. The meeting is closed to the public.

Dated: May 2, 2007.
Judith Spaeth,
Director, Office of Federal Advisory Committee Policy.

[FR Doc. 07-2299 Filed 5-8-07; 8:45 am]

BILLING CODE 4140-01-M